DEPARTMENT OF LABOR

Employment and Training Administration

[TA-W-60,835, TA-W-60,835A, TA-W-60,835B, TA-W-60,835C, TA-W-60,835D, TA-W-60,835E]

Kimberly Clark Corporation, Kimberly Clark World-Wide, Neenah, WI; Kimberly Clark Global Sales, Roswell, GA; Kimberly Clark World-Wide, Roswell, GA; Kimberly Clark Global Sales, Knoxville, TN; Kimberly Clark World-Wide, Knoxville, TN; Kimberly Clark Global Sales, Irving, TX; Notice of Affirmative Determination Regarding Application for Reconsideration

By letter dated April 30, 2007, counsel for Kimberly Clark Corporation (the subject firm) requested administrative reconsideration by the Department of Labor (Department) of the Notice of Negative Determination Regarding Eligibility to Apply for Worker Adjustment Assistance applicable to workers and former workers of the subject firm. The Department's negative determination was issued on March 30, 2007. The Department's Notice of determination was published in the Federal Register on April 10, 2007 (72 FR 17938). Workers provided administrative support to various affiliated facilities.

The initial investigation found that a majority of the administrative work done by the petitioning worker groups is not directed toward support of production taking place at certified affiliated production facilities and that a preponderance of the separations are the result of the subject firm's decision to outsource positions outside of the corporation.

The negative determination stated that worker separations are not caused by imports but by the subject firm's decision to outsource administrative support positions, and stated that the separations cannot be directly attributed to imports or a shift in production of an article.

In the request for reconsideration, counsel alleged that the petitioning worker groups either had a “direct link to” or directly supported production at affiliated certified production facilities.

The Department has carefully reviewed the request for reconsideration and has determined that further investigation is appropriate.

Conclusion

After careful review of the application, I conclude that the claim is of sufficient weight to justify reconsideration of the U.S. Department of Labor's prior decision. The application is, therefore, granted.

Signed at Washington, DC, this 29th day of May 2007.
Elliott S. Kushner,
Certifying Officer, Division of Trade Adjustment Assistance.

[FR Doc. E7-11025 Filed 6-6-07; 8:45 am]

BILLING CODE 4510-FN-P